NUCLEAR REGULATORY COMMISSION

10 CFR Part 110

RIN 3150-AH67

Export and Import of Nuclear Equipment and Material; Exports to Syria Embargoed

AGENCY: Nuclear Regulatory Commission.

ACTION: Final rule.

SUMMARY: The Nuclear Regulatory Commission (NRC) is amending its export/import regulations to remove Syria from the list of restricted destinations and add it to the list of embargoed destinations. This amendment is necessary to conform the NRC's regulations with U.S. law and foreign policy.

EFFECTIVE DATE: May 25, 2005.

ADDRESSES: Publicly available documents related to this rulemaking may be viewed electronically on the public computers located at the NRC's Public Document Room (PDR), Public File Area O1F21, One White Flint North, 11555 Rockville Pike, Rockville, Maryland. The PDR reproduction contractor will copy documents for a fee. Selected documents, including comments can be viewed and downloaded electronically via the NRC's rulemaking Web site at http://ruleforum.llnl.gov.

Publicly available documents created or received at the NRC are available electronically at the NRC's Electronic Reading Room at http://www.nrc.gov/NRC/reading-rm/adams.html. From this site, the public can gain entry into the NRC's Agencywide Document Access and Management System (ADAMS), which provides text and image files of NRC's public documents. If you do not have access to ADAMS or if there are problems in accessing the documents located in ADAMS, contact the NRC Public Document Room (PDR) Reference staff at 1-800-397-4209, 301-415-4737 or by e-mail to PDR@nrc.gov.

FOR FURTHER INFORMATION CONTACT: Kirk Foggie, International Relations Specialist, Office of International Programs, U.S. Nuclear Regulatory Commission, Washington, DC 20555-0001, telephone 301-415-2238, e-mail kxf@nrc.gov, or Suzanne Schuyler-Hayes, International Policy Analyst, Office of International Programs, U.S. Nuclear Regulatory Commission, Washington, DC 20555-0001, telephone 301-415-2333, e-mail: ssh@nrc.gov.

SUPPLEMENTARY INFORMATION: The purpose of this final rule is to conform NRC's export/import regulations in 10 CFR Part 110, “Export and Import of Nuclear Equipment and Material”, with current U.S. Government law and policy on Syria. The Executive Branch has requested that in light of the Syria Accountability and Lebanese Sovereignty Restoration Act of 2003 (Pub. L. 108-175) (SAA) and Executive Order (E.O.) 13338, Blocking Property of Certain Persons and Prohibiting the Export of Certain Goods to Syria (May 11, 2004), which implements that legislation, 10 CFR Part 110 be amended by moving Syria from the restricted to the embargoed destinations list.

The purpose of this rule is to move Syria from the list of restricted destinations for exports at 10 CFR 110.29 to the list of embargoed destinations at 10 CFR 110.28. This means that no nuclear material or equipment can be exported to Syria under a general license in 10 CFR 110.21-110.25.

Administrative Procedure Act

The provisions of the Administrative Procedure Act under 5 U.S.C. 553 requiring notice of proposed rulemaking, the opportunity for public participation, and a 30-day delay in effective date are inapplicable because this rule involves a foreign affairs function of the United States (5 U.S.C. 553(a)(1)). Accordingly, this final rule is effective immediately upon publication in the Federal Register.

This rule updates the NRC's regulations at 10 CFR Part 110 governing the export and import of nuclear equipment and materials to incorporate the U.S. Government's foreign policy in light of changing circumstances with respect to Syria. This rulemaking moves Syria from the list of restricted destinations at 10 CFR 110.29 to the list of embargoed destinations at 10 CFR 110.28. This action is being taken at the request of the Executive Branch.

After enactment of the SAA, on May 11, 2004, the President issued E.O. 13338, in which he determined that “the actions of the Government of Syria in supporting terrorism, continuing its occupation of Lebanon, pursuing weapons of mass destruction and missile programs, and undermining the United States and international efforts with respect to the stabilization and reconstruction of Iraq constitute an unusual and extraordinary threat to the national security, foreign policy, and economy of the United States,” and he declared a national emergency to deal with that threat. To address that threat, and to implement the SAA, he ordered, among other things, that “No * * * agency of the United States Government shall permit the exportation or reexportation to Syria of any product of the United States, except to the extent provided in regulations, orders, directives, or licenses that may be issued pursuant to this order in a manner consistent with the SAA, and notwithstanding any license, permit, or authorization granted prior to the effective date of this order.” Section 1.c. On this basis, the U.S. Department of State recently requested that Syria be moved from the list of restricted destinations at 10 CFR 110.29 to the list of embargoed destinations at 10 CFR 110.28. The effect of moving Syria from 10 CFR 110.29 to 10 CFR 110.28 will be to prohibit the export of any nuclear material and components to Syria under general license.

The NRC has determined that moving Syria from the restricted list to the embargoed list is consistent with current U.S. law and foreign policy, and will pose no unreasonable risk to the public health and safety or to the common defense and security of the United States.

Voluntary Consensus Standards

The National Technology Transfer and Advancement Act of 1995, Pub. L. 104-113, requires that Federal Agencies use technical standards that are developed or adopted by voluntary consensus standards bodies unless using such a standard is inconsistent with applicable law or otherwise impractical. This final rule does not constitute the establishment of a standard for which the use of a voluntary consensus standard would be applicable.

Environmental Impact: Categorical Exclusion

The NRC has determined that this final rule is the type of action described in categorical exclusion 10 CFR 51.22(c)(1). Therefore, neither an environmental impact statement nor an environmental assessment has been prepared for the rule.

Paperwork Reduction Act Statement

This final rule does not contain new or amended information collection requirements subject to the Paperwork Reduction Act of 1995 (44 U.S.C. 3501 et. seq.). Existing requirements were approved by the Office of Management and Budget, approval number 3150-0036.

Public Protection Notification

If a means used to impose an information collection does not display a current valid OMB control number, the NRC may not conduct or sponsor, and a person is not required to respond to, the information collection.

Regulatory Analysis

The NRC currently controls exports to Syria as a restricted destination in 10 CFR 110.29. There is no alternative to amending the regulations to achieve the stated objective of embargoing nuclear exports to Syria. This rule conforms the NRC's export controls to U.S. law and foreign policy regarding Syria.

Regulatory Flexibility Certification

As required by the Regulatory Flexibility Act of 1980, (5 U.S.C. 605(b)), the Commission certifies that this final rule will not have a significant economic impact on a substantial number of small entities. The rule affects only companies exporting nuclear equipment and materials to Syria which do not fall within the scope of the definition of “small entities” set forth in the Regulatory Flexibility Act (5 U.S.C. 601(3)), or the Size Standards established by the NRC (10 CFR 2.810).

Backfit Analysis

The NRC has determined that a backfit analysis is not required for this direct final rule because these amendments do not include any provisions that would impose backfits as defined in 10 CFR Chapter I.

Small Business Regulatory Enforcement Fairness Act

In accordance with the Small Business Regulatory Enforcement Fairness Act of 1996, the NRC has determined that this action is not a major rule and has verified this determination with the Office of Information and Regulatory Affairs of OMB.

List of Subjects in 10 CFR Part 110

Administrative practice and procedure, Classified information, Criminal penalties, Export, Import, Intergovernmental relations, Nuclear materials, Nuclear power plants and reactors, Reporting and recordkeeping requirements, Scientific equipment.

For the reasons set out in the preamble and under the authority of the Atomic Energy Act of 1954, as amended, the Energy Reorganization Act of 1974, as amended, and 5 U.S.C. 552 and 553, the NRC is adopting the following amendments to 10 CFR Part 110.

PART 110—EXPORT AND IMPORT OF NUCLEAR EQUIPMENT AND MATERIAL

1. The authority citation for Part 110 continues to read as follows:

Authority: Secs. 51, 53, 54, 57, 63, 64, 65, 81, 82, 103, 104, 109, 111, 126, 127, 128, 129, 161, 181, 182, 187, 189, 68 Stat. 929, 930, 931, 932, 933, 936, 937, 948, 953, 954, 955, 956, as amended (42 U.S.C. 2071, 2073, 2074, 2077, 2092-2095, 2111, 2112, 2133, 2134, 2139, 2139a, 2141, 2154-2158, 2201, 2231-2233, 2237, 2239); sec. 201, 88 Stat. 1242, as amended (42 U.S.C. 5841); sec. 5, Pub. L. 101-575, 104 Stat. 2835 (42 U.S.C. 2243); Sec. 1704, 112 Stat. 2750 (44 U.S.C. 3504 note).

Sections 110.1(b)(2) and 110.1(b)(3) also issued under Pub. L. 96-92, 93 Stat. 710 (22 U.S.C. 2403). Section 110.11 also issued under sec. 122, 68 Stat. 939 (42 U.S.C. 2152) and secs. 54c and 57d, 88 Stat. 473, 475 (42 U.S.C. 2074). Section 110.27 also issued under sec. 309(a), Pub. L. 99-440. Section 110.50(b)(3) also issued under sec. 123, 92 Stat. 142 (42 U.S.C. 2153). Section 110.51 also issued under sec. 184, 68 Stat. 954, as amended (42 U.S.C. 2234). Section 110.52 also issued under sec. 186, 68 Stat. 955 (42 U.S.C. 2236). Sections 110.80-110.113 also issued under 5 U.S.C. 552, 554. Sections 110.30-110.135 also issued under 5 U.S.C. 553. Sections 110.2 and 110.42(a)(9) also issued under sec. 903, Pub. L. 102-496 (42 U.S.C. 2151 et seq.).

§ 110.28 [Amended]

2. Section 110.28 is amended by adding Syria to the list of embargoed destinations.

§ 110.29 [Amended]

3. Section 110.29 is amended by removing Syria from the list of restricted destinations.

Dated at Rockville, Maryland, this May 3, 2005.
For the Nuclear Regulatory Commission.
Luis A. Reyes,
Executive Director For Operations.

[FR Doc. 05-10391 Filed 5-24-05; 8:45 am]

BILLING CODE 7590-01-P